SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: May 1-31, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f):

1. Pennsylvania General Energy Company, LLC, Pad ID: COP Tract 293 Pad I, ABR-201111014.R1, Cummings Township, Lycoming County, Pa.; Consumptive Use of Up to 3.5000 mgd; Approval Date: May 2, 2016.

2. Range Resources-Appalachia, LLC, Pad ID: Null, Eugene Unit #2H-#7H Drilling Pad, ABR-201104011.R1, Lewis Township, Lycoming County, Pa.; Consumptive Use of Up to 5.0000 mgd; Approval Date: May 2, 2016.

3. Seneca Resources Corporation, Pad ID: Gamble Pad C Alt, ABR-201605001, Gamble Township, Lycoming County, Pa.; Consumptive Use of Up to 4.0000 mgd; Approval Date: May 2, 2016.

4. SWEPI, LP, Pad ID: Butler 853, ABR-201103037.R1, Middlebury Township, Tioga County, Pa.; Consumptive Use of Up to 4.0000 mgd; Approval Date: May 2, 2016.

5. Chesapeake Appalachia, LLC, Pad ID: Donovan, ABR-201110016.R1, Ulster Township, Bradford County, Pa.; Consumptive Use of Up to 7.5000 mgd; Approval Date: May 2, 2016.

6. Chesapeake Appalachia, LLC, Pad ID: Gardner, ABR-201110020.R1, Albany Township, Bradford County, Pa.; Consumptive Use of Up to 7.5000 mgd; Approval Date: May 2, 2016.

7. Chesapeake Appalachia, LLC, Pad ID: Laurel, ABR-201110004.R1, Overton Township, Bradford County, Pa.; Consumptive Use of Up to 7.5000 mgd; Approval Date: May 2, 2016.

8. Anadarko E&P Onshore, LLC, Pad ID: Lycoming H&FC Pad E, ABR-201105013.R1, Cogan House Township, Lycoming County, Pa.; Consumptive Use of Up to 4.0000 mgd; Approval Date: May 5, 2016.

9. Anadarko E&P Onshore, LLC, Pad ID: Larrys Creek F&G Pad H, ABR-201106019.R1, Cummings Township, Lycoming County, Pa.; Consumptive Use of Up to 4.0000 mgd; Approval Date: May 5, 2016.

10. Anadarko E&P Onshore, LLC, Pad ID: H. Lyle Landon Pad A, ABR-201106020.R1, Cogan House Township, Lycoming County, Pa.; Consumptive Use of Up to 4.0000 mgd; Approval Date: May 5, 2016.

11. Anadarko E&P Onshore, LLC, Pad ID: COP Tract 728 Pad B, ABR-201106027.R1, Watson Township, Lycoming County, Pa.; Consumptive Use of Up to 4.0000 mgd; Approval Date: May 5, 2016.

12. Range Resources-Appalachia, LLC, Pad ID: Gulf USA #63H Drilling Pad, ABR-201103043.R1, Snow Shoe Township, Centre County, Pa.; Consumptive Use of Up to 5.0000 mgd; Approval Date: May 5, 2016.

13. Pennsylvania General Energy Company, LLC, Pad ID: COP Tract 293 Pad G, ABR-201109005.R1, McHenry Township, Lycoming County, Pa.; Consumptive Use of Up to 3.5000 mgd; Approval Date: May 5, 2016.

14. Pennsylvania General Energy Company, LLC, Pad ID: COP Tract 293 Pad H, ABR-201111013.R1, Cummings Township, Lycoming County, Pa.; Consumptive Use of Up to 3.5000 mgd; Approval Date: May 5, 2016.

15. Pennsylvania General Energy Company, LLC, Pad ID: COP Tract 729 Pad B, ABR-201111015.R1, Cummings Township, Lycoming County, Pa.; Consumptive Use of Up to 3.5000 mgd; Approval Date: May 5, 2016.

16. Cabot Oil & Gas Corporation, Pad ID: VandermarkR P1, ABR-201107029.R1, Dimock Township, Susquehanna County, Pa.; Consumptive Use of Up to 3.5750 mgd; Approval Date: May 11, 2016.

17. Chief Oil & Gas LLC, Pad ID: Elliott B Drilling Pad #1, ABR-201109030.R1, Monroe Township, Bradford County, Pa.; Consumptive Use of Up to 2.0000 mgd; Approval Date: May 11, 2016.

18. SWEPI, LP, Pad ID: M L Mitchell Trust 554, ABR-201103017.R1, Middlebury Township, Tioga County, Pa.; Consumptive Use of Up to 4.0000 mgd; Approval Date: May 11, 2016.

19. SWEPI, LP, Pad ID: Salevsky 335, ABR-201103046.R1, Charleston Township, Tioga County, Pa.; Consumptive Use of Up to 4.0000 mgd; Approval Date: May 11, 2016.

20. Cabot Oil & Gas Corporation, Pad ID: GreenwoodR P2, ABR-201605002, Bridgewater Township, Susquehanna County, Pa.; Consumptive Use of Up to 4.2500 mgd; Approval Date: May 13, 2016.

21. Chief Oil & Gas LLC, Pad ID: Kerr B Drilling Pad #1, ABR-201109031.R1, Lathrop Township, Susquehanna County, Pa.; Consumptive Use of Up to 2.0000 mgd; Approval Date: May 13, 2016.

22. EOG Resources, Inc., Pad ID: PHC Pad DD, ABR-201103025.R1, Lawrence Township, Clearfield County, Pa.; Consumptive Use of Up to 4.9990 mgd; Approval Date: May 13, 2016.

23. EOG Resources, Inc., Pad ID: PHC Pad CC, ABR-201103027.R1, Lawrence Township, Clearfield County, Pa.; Consumptive Use of Up to 4.9990 mgd; Approval Date: May 13, 2016.

24. EOG Resources, Inc., Pad ID: PHC Pad BB, ABR-201103028.R1, Lawrence Township, Clearfield County, Pa.; Consumptive Use of Up to 4.9990 mgd; Approval Date: May 13, 2016.

25. EOG Resources, Inc., Pad ID: COP Pad S, ABR-201103029.R1, Lawrence Township, Clearfield County, Pa.; Consumptive Use of Up to 4.9990 mgd; Approval Date: May 13, 2016.

26. EOG Resources, Inc., Pad ID: HOUSER 1H Pad, ABR-201107018.R1, Burlington Township, Bradford County, Pa.; Consumptive Use of Up to 4.9990 mgd; Approval Date: May 13, 2016.

27. EOG Resources, Inc., Pad ID: CRANE Pad, ABR-201107023.R1, Smithfield Township, Bradford County, Pa.; Consumptive Use of Up to 4.9990 mgd; Approval Date: May 13, 2016.

28. SWN Production Company, LLC, Pad ID: Price Pad, ABR-201104017.R1, Lenox Township, Susquehanna County, Pa.; Consumptive Use of Up to 4.9900 mgd; Approval Date: May 17, 2016.

29. SWN Production Company, LLC, Pad ID: Lyncott Corp Pad, ABR-201107044.R1, New Milford Township, Susquehanna County, Pa.; Consumptive Use of Up to 4.9900 mgd; Approval Date: May 17, 2016.

30. SWN Production Company, LLC, Pad ID: Bark'em Squirrel Pad, ABR-201107045.R1, New Milford Township, Susquehanna County, Pa.; Consumptive Use of Up to 4.9900 mgd; Approval Date: May 17, 2016.

31. SWN Production Company, LLC, Pad ID: Cramer Pad, ABR-201108007.R1, New Milford Township, Susquehanna County, Pa.; Consumptive Use of Up to 4.9900 mgd; Approval Date: May 17, 2016.

32. SWN Production Company, LLC, Pad ID: Roman Pad, ABR-201108020.R1, New Milford Township, Susquehanna County, Pa.; Consumptive Use of Up to 4.9900 mgd; Approval Date: May 17, 2016.

33. SWN Production Company, LLC, Pad ID: Folger Pad, ABR-201108022.R1, New Milford Township, Susquehanna County, Pa.; Consumptive Use of Up to 4.9900 mgd; Approval Date: May 17, 2016.

34. SWN Production Company, LLC, Pad ID: Grizzanti Pad, ABR-201108023.R1, New Milford Township, Susquehanna County, Pa.; Consumptive Use of Up to 4.9900 mgd; Approval Date: May 17, 2016.

35. Talisman Energy USA Inc, Pad ID: 05 253 Senn W, ABR-201106001.R1, Windham Township, Bradford County, Pa.; Consumptive Use of Up to 6.0000 mgd; Approval Date: May 17, 2016.

36. Chesapeake Appalachia, LLC, Pad ID: Alkan, ABR-201110021.R1, Wilmot Township, Bradford County, Pa.; Consumptive Use of Up to 7.5000 mgd; Approval Date: May 25, 2016.

37. Chesapeake Appalachia, LLC, Pad ID: Bodolus, ABR-201111028.R1, Litchfield Township, Bradford County, Pa.; Consumptive Use of Up to 7.5000 mgd; Approval Date: May 25, 2016.

38. Chief Oil & Gas LLC, Pad ID: Kuziak Drilling Pad #1, ABR-201107028.R1, Fox Township, Sullivan County, Pa.; Consumptive Use of Up to 2.0000 mgd; Approval Date: May 25, 2016.

39. Chief Oil & Gas LLC, Pad ID: Savage Drilling Pad #1, ABR-201108018.R1, Elkland Township, Sullivan County, Pa.; Consumptive Use of Up to 2.0000 mgd; Approval Date: May 25, 2016.

40. Chief Oil & Gas LLC, Pad ID: Yonkin Drilling Pad #1, ABR-201109020.R1, Cherry Township, Sullivan County, Pa.; Consumptive Use of Up to 2.0000 mgd; Approval Date: May 25, 2016.

41. SWEPI, LP, Pad ID: Root #1, ABR-201605003, Jackson Township, Tioga County, Pa.; Consumptive Use of Up to 4.0000 mgd; Approval Date: May 25, 2016.

42. SWEPI, LP, Pad ID: Hector 2, ABR-201605004, Hector Township, Potter County, Pa.; Consumptive Use of Up to 4.0000 mgd; Approval Date: May 25, 2016.

43. Seneca Resources Corporation, Pad ID: DCNR 007 Pad G, ABR-201605005, Shippen Township, Tioga County, Pa.; Consumptive Use of Up to 4.0000 mgd; Approval Date: May 25, 2016.

Authority: Pub. L. 91-575, 84 Stat. 1509 et seq., 18 CFR parts 806, 807, and 808.

Dated: July 6, 2016.
Stephanie L. Richardson,
Secretary to the Commission.

[FR Doc. 2016-16324 Filed 7-8-16; 8:45 am]

BILLING CODE 7040-01-P